DEPARTMENT OF COMMERCE

National Oceanic and Atmospheric Administration

50 CFR Part 648

[Docket No. 031104274-4011-02;I.D. 071604E]

Fisheries of the Northeastern United States; Atlantic Mackerel, Squid, and Butterfish Fisheries; Inseason Adjustment of the Quarter III Fishery for Loligo Squid

AGENCY: National Marine Fisheries Service (NMFS), National Oceanic and Atmospheric Administration (NOAA), Commerce.

ACTION: Inseason adjustment.

SUMMARY: NMFS announces that the Regional Administrator, Northeast Region, NMFS (Regional Administrator) is decreasing the commercial Loligo squid quota for Quarter III in the Exclusive Economic Zone (EEZ). This inseason adjustment is necessary due to overages in the commercial quota landed in the Quarter 1.

DATES: Effective 0001 hours, July 20, 2004, through 2400 hours, September 30, 2004.

FOR FURTHER INFORMATION CONTACT: Don Frei, Fishery Management Specialist, 978-281-9221, fax 978-281-9135, e-mail don.frei@noaa.gov.

SUPPLEMENTARY INFORMATION: Section 648.21 (f)(2) requires the Regional Administrator to subtract any overages of Loligo squid commercial quota landed during Quarter I from the allocation for Quarter III. Accordingly, the Regional Administrator, based on dealer reports and other available information, has determined that there was a 5.6 percent overage in Quarter I Loligo squid directed fishery. Therefore, the quota for the directed fishery for Loligo squid in Quarter III is reduced from 6,435,130 lb (2,918.9 mt) to 5,733,152 lb (2,600.5 mt). The regulations governing the Atlantic mackerel, squid, and butterfish fisheries require notification to the public of this adjustment.

Authority: 16 U.S.C. 1801 et seq.

Dated: July 19, 2004.
Alan D. Risenhoover,
Acting Director, Office of Sustainable Fisheries, National Marine Fisheries Service.

[FR Doc. 04-16835 Filed 7-20-04; 3:58 pm]

BILLING CODE 3510-22-S